FEDERAL MARITIME COMMISSION

[Docket No. 00-04]

Al Kogan d/b/a Galaway International v. World Express Shipping, Transportation and Forwarding Services, Inc. D/B/A W.E.S.T. Forwarding Services (FMC Lic. #3118-R); Notice of Filing of Complaint and Assignment

Notice is given that a complaint was filed by Al Kogan d/b/a Galaway International (“Complainant”), against World Express Shipping, Transportation and Forwarding Services, Inc. d/b/a W.E.S.T. Forwarding Services (FMC Lic. #3118-R) (“Respondent”). Complainant alleges that Respondent, engaged in the freight forwarding and shipping business as both an ocean freight forwarder and a non-vessel operating carrier, violated sections 10(b)(1), 10(b)(5), 10(b)(6)(E), 10(b)(12) and 10(d)(1) of the Shipping Act of 1984, 46 U.S.C. app. §§ 1709(b)(1), 1709(b)(5), 1709(b)(6)(E), 1709(b)(12) and 1709(d)(1), (“1984 Act”) in connection with a shipment of a container of auto parts from Chicago, Illinois, to Moscow, Russia. Complainant alleges that these violations were caused by Respondent failing to follow Complainant's instructions to route the container through Kotka, Finland, thereby forcing Complainant to pay more than the original amount quoted by Respondent; by discriminating against Complainant in delaying the shipment to Kotka, causing Complainant to lose his customer and in refusing to release the container in Kotka, causing Complainant to incur demmurrage charges and damages and costs related to the eventual delivery of the goods; subjecting Complainant to unfair and discriminatory practices in connection with the adjustment and settlement of the claims involved with the container; subjecting Complainant to an unreasonable refusal to deal and undue and unreasonable prejudice by holding the container hostage in Kotka; and by improperly billing Complainant and refusing to cooperate with Complainant and thereby failing to establish, observe, and enforce just and reasonable practices relating to or connected with receiving, handling, storing or delivery property.

Additionally, Complainant alleges that Respondent violated the following Commission rules under 46 CFR Part 510 (1998): §§ 510.21(f)(1998), by placing false information on the involved shipping documents; 510.22(b)(1998), by withholding information concerning the shipment; 510.22(c)(1998), by failing to exercise due diligence concerning the shipment; 510.22(d)(1998), by preparing erroneous documents in connection with the shipment; 510.22(g)(1998), by failing to substantiate its invoice charges or to provide true copies of its underlying documents for its invoices when requested by the Complainant; 510.22(j)(1998), by failing to account for the overpayments, adjustments of charges, reductions in rates, insurance refunds and other sums due Complainant; 510.23(a)(1998), by failing to fully disclose Complainant's identity in Respondent's dealings with another carrier; 510.23(f)(1998), by causing duplicative compensation for services; and 510.23(h), by receiving compensation in connection with a shipment in which it has a beneficial interest.

Complainant requests that the Commission order Respondent to cease and desist from the aforesaid violations of the Act; to establish and put into force such practices as the Commission determines to be lawful and reasonable; to pay Complainant reparations in the sum of $250,000 with interest and attorney's fees and costs or such other sum as the Commission may determine to be proper as an award of reparation.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, deposition, or other documents or that the nature of the matter in issue is such that an oral hearing and cross-examination are necessary for the development of an adequate road. Pursuant to the further terms of 46 CFR 502.61, the initial decision of the presiding officer in this proceeding shall be issued by March 2, 2001, and the final decision of the Commission shall be issued by July 2, 2001.

Bryant L. VanBrakle,
Secretary.

[FR Doc. 00-5406 Filed 3-6-00; 8:45 am]

BILLING CODE 6730-01-M